DEPARTMENT OF ENERGY

Federal Energy Regulatory Commission

[Docket No. EL02-64-000]

Northern California Power Agency; Notice of Petition for Declaratory Order

March 1, 2002.

Take notice that on February 28, 2002, the Northern California Power Agency (NCPA), filed with the Federal Energy Regulatory Commission (Commission or FERC) a Petition for Declaratory Order establishing certain existing contractual rights under PG&E FERC Rate Schedule No. 79 (Contract 2948A) between the Pacific Gas & Electric Company (PG&E) and the Western Area Power Administration (Western). The petition seeks to clarify the status of certain ongoing scheduling provisions pertaining to power that is wheeled from Western to NCPA members by PG&E, pursuant to the contract. NCPA is seeking to resolve a controversy over the continuing nature of these rights in light of PG&E's proposed termination of the NCPA/PG&E Interconnection Agreement, presently pending in Docket ER01-2998-000.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Comment Date: March 11, 2002.
Magalie R. Salas,
Secretary.

[FR Doc. 02-5441 Filed 3-6-02; 8:45 am]

BILLING CODE 6717-01-P